DEPARTMENT OF COMMERCE

International Trade Administration Iraq Conference; Announcement of U.S.-Iraq Business and Investment Conference in Washington, DC; October 20-21, 2009

AGENCY: Department of Commerce.

ACTION: Notice.

Event Description: The U.S. Department of Commerce (Commerce), International Trade Administration (ITA), is organizing a U.S.-Iraq Business and Investment Conference, to be held in Washington, DC, on October 20th and 21st, 2009. The goal of the conference is to encourage U.S. private investment in Iraq by promoting current business opportunities, providing matchmaking opportunities for U.S. and Iraqi firms, providing opportunities for dialogue with Iraqi Ministers and other senior Government of Iraq (GOI) officials, and holding bilateral meetings with U.S. and Iraqi government officials to address commercial policy. The conference will cover twelve sectors—agriculture, banking/finance, defense, electricity, health, education, housing/construction, industry, oil/gas, telecommunications, tourism and transportation—and, while it will be open to all U.S. companies, those operating in these sectors are especially encouraged to participate. The Iraqi delegation will include several Iraqi Ministers and other senior GOI officials, many provincial government officials, and representatives from over 100 private-sector firms.

Background: The investment conference was announced by Iraqi Prime Minister Maliki at the U.S. Chamber of Commerce headquarters, Washington, DC, on July 24, 2009. The conference, to be held on October 20th and 21st, 2009, in Washington, DC, will provide plenary sessions with U.S. and GOI keynote speakers, break-out sessions with Iraqi provincial government officials, and breakout sessions on the following twelve sectors: agriculture, banking/finance, defense, electricity, health, education, housing/construction, industry, oil/gas, telecommunications, tourism and transportation. It will also provide matchmaking opportunities for U.S. and Iraqi firms.

Event Goals: The conference will facilitate business-to-business meetings between U.S. companies and their private-sector counterparts in Iraq, as well as improve U.S. industries' understanding of the commercial opportunities in Iraq. The conference is also designed to facilitate commercial dialogue between the GOI and the U.S. private sector. The conference aims to:

• Promote current investment and business opportunities in Iraq.

• Provide matchmaking opportunities for U.S. and Iraqi firms.

• Address challenges to doing business in Iraq.

• Provide opportunities for U.S. firms to meet with Iraqi Ministers and other senior GOI officials.

• Hold bilateral meetings with U.S. and Iraqi government officials to address commercial policy.

Proposed Event Timetable

Oct 20 | • The opening day of the event will include a plenary session at which senior U.S.G. and GOI officials will address participants.
| • In the afternoon, industry sector breakout sessions will take place, as well as matchmaking meetings between U.S. and Iraqi firms.
Oct 21 | • Panels addressing how to do business in Iraq, the U.S. business experience and sector breakout sessions.
| • The afternoon session will allow for overviews of the Provinces, a regulatory and legal overview and matchmaking between firms.
Oct 22 | • One-on-one business meetings.

Participation Requirements

Interested parties will be able to register online for the investment conference at http://www.trade.gov/iraq. A registration fee of $200 will be charged to cover meal expenses. Registrations received after October 12, 2009, will be considered only if space and scheduling constraints permit.

Disclaimer

The U.S. Government does not make any representations or guarantees as to the commercial success of business activities that utilize or rely upon information obtained at this conference.

FOR FURTHER INFORMATION CONTACT:

Tanya Cheguer, U.S. Department of Commerce, Iraq Investment and Reconstruction Task Force, E-mail: tanya.cheguer@mail.doc.gov. Telephone: 202-482-1232, Facsimile: 202-482-0980.

Ariana Monti, U.S. Department of Commerce, Iraq Investment and Reconstruction Task Force, E-mail: ariana.monti@mail.doc.gov, Telephone: 202-482-3754, Facsimile: 202-482-0980.

Susan Hamrock-Mann,
Director, Iraq Investment & Reconstruction Task Force, U.S. Department of Commerce.

[FR Doc. E9-22823 Filed 9-21-09; 8:45 am]

BILLING CODE 3510-DA-P